GULF COAST ECOSYSTEM RESTORATION COUNCIL

[Docket No. 111162022-111-01]

Senior Executive Service Performance Review Board Membership

AGENCY: Gulf Coast Ecosystem Restoration Council (GCERC).

ACTION: Notice of Performance Review Board (PRB) appointments.

SUMMARY: This notice announces the members of the Senior Executive Service (SES) Performance Review Board. The PRB is comprised of a Chairperson and a mix of state representatives and career senior executives that meet annually to review and evaluate performance appraisal documents and provide a written recommendation to the Chairperson of the Council for final approval of each executive's performance rating, performance-based pay adjustment, and performance award.

DATES: The board membership is applicable beginning on 12/01/2021 and ending on 12/31/22.

FOR FURTHER INFORMATION CONTACT: Mary S. Walker, Executive Director, Gulf Coast Ecosystem Restoration Council, telephone 504-210-9982.

SUPPLEMENTARY INFORMATION: In accordance with 5 U.S.C. 4314(c)(4), the persons named below have been selected to serve on the PRB:

Department of Commerce

Carrie Robinson, National Oceanic and Atmospheric Administration, National Marine Fisheries Service, Office of the Habitat Conservation and Restoration, Carrie.Robinson@noaa.gov, 301-427-8605

State of Louisiana

Chris Barnes, Coastal Protection and Restoration Authority, Legal Advisor, Coastal Activities, Chris.Barnes@la.gov, 225-342-9036

State of Mississippi

Wells, Chris, Executive Director, Mississippi Department of Environmental Quality, cwells@mdeq.ms.gov, 601-961-5545

Environmental Protection Agency

Wyatt, Marc, Director, Gulf of Mexico Division, Wyatt.marc@epa.gov, 228-679-5915

Keala Hughes,
Director of External Affairs and Tribal Relations.

[FR Doc. 2022-25360 Filed 11-21-22; 8:45 am]

BILLING CODE 6560-58-P